DEPARTMENT OF TRANSPORTATION (DOT)

Federal Aviation Administration

Permanent Closure of the Public-Use of East Hampton Airport

AGENCY: Federal Aviation Administration (FAA), DOT.

ACTION: Notice of closure of the public-use of East Hampton Airport (HTO).

SUMMARY: The FAA received written notice on January 20, 2022 from the Town of East Hampton, followed by an amended request on February 17, 2022, advising that effective May 17, 2022, the Town will be closing the public-use East Hampton Airport (HTO), East Hampton, New York.

DATES: The closure of the public-use airport is effective as of May 17, 2022.

FOR FURTHER INFORMATION CONTACT: Mahendra Raghubeer, Manager, Safety and Standards Branch, Federal Aviation Administration, 1 Aviation Plaza, Jamaica, NY 11434 Tel: 718-553-3352, email: Aea600@faa.gov.

SUPPLEMENTARY INFORMATION: HTO is a general aviation airport in the National Plan of Integrated Airport Systems (NPIAS). The Town of East Hampton has owned and operated HTO for several decades. HTO previously received federal grants-in-aid for airport development and was subject to statutory grant assurances, but the Town is no longer contractually obligated to continue operating HTO as a public use airport. On January 20, 2022, and amended on February 17, 2020, the Town of East Hampton notified the FAA that it seeks to deactivate HTO on May 17, 2022 as a public-use airport and activate a new private-use airport, at the same location, on May 19, 2022. Section 46319 of title 49 of the United States Code (49 U.S.C. 46319) provides that a public agency (as defined in 49 U.S.C. 47102) may not permanently close an airport in the NPIAS without providing written notice to the FAA Administrator at least 30 days before the date of the closure. In this case, the public-use airport will be closed. The FAA recognizes the correspondence received on January 20, 2022 from the Town of East Hampton, followed by the amended request on February 17, 2022, meets that requirement. The FAA is publishing the Town of East Hampton's notice to close the public-use of HTO in accordance with 49 U.S.C. 46319(b).

Issued in Jamaica, New York on April 11, 2022.
David A. Fish,
Director, Eastern Region Airports Division.

[FR Doc. 2022-08059 Filed 4-14-22; 8:45 am]

BILLING CODE 4910-13-P